Notice of September 23, 2002

Continuation of the National Emergency With Respect to UNITA

In accordance with section 202(d) of the National Emergencies Act (50 U.S.C. 1622(d)), I am continuing for 1 year the national emergency declared by the President on September 26, 1993, by Executive Order 12865, to deal with the unusual and extraordinary threat to the foreign policy of the United States constituted by the actions and policies of the National Union for the Total Independence of Angola (UNITA). The order prohibits the sale or supply by United States persons or from the United States, or using U.S. registered vessels or aircraft, of arms, related materiel of all types, petroleum, and petroleum products to the territory of Angola, other than through designated points of entry. The order also prohibits the sale or supply of such commodities to UNITA.

The President took additional measures with respect to the national emergency declared in Executive Order 12865 by issuing Executive Orders 13069 and 13098 on December 12, 1997, and August 18, 1998, respectively. Those orders close all UNITA offices in the United States, block all property and interests in property of UNITA and designated UNITA officials and adult members of their immediate families, prohibit the importation of certain diamonds exported from Angola, and impose additional sanctions with respect to the provision of mining and transportation equipment and services.

Because of our continuing international obligations and because of the prejudicial effect that discontinuation of the sanctions would have on prospects for peace in Angola, the national emergency declared on September 26, 1993, and the measures adopted pursuant thereto to deal with that emergency, must continue in effect beyond September 26, 2002. Therefore, I am continuing the national emergency with respect to UNITA.

This notice shall be published in the Federal Register and transmitted to the Congress.

B

THE WHITE HOUSE,

September 23, 2002.

[FR Doc. 02-24467

Filed 9-24-02; 8:45 am]

Billing code 3195-01-P